DEPARTMENT OF HOMELAND SECURITY

Coast Guard

33 CFR Part 165

[Docket No. USCG-2021-0494]

Security Zones, Seattle's Seafair Fleet Week Moving Vessels, Puget Sound, WA

AGENCY: Coast Guard, Department of Homeland Security (DHS).

ACTION: Notification of non-enforcement of regulation.

SUMMARY: The Coast Guard will not enforce the security zones for Seattle's Seafair Fleet Week moving vessels, Puget Sound, WA in July or August 2021. The Captain of the Port Sector Puget Sound has determined that enforcement of this regulation is not necessary because the event is cancelled.

DATES: The Coast Guard does not plan to enforce regulations in 33 CFR 165.1333 in July or August 2021.

FOR FURTHER INFORMATION CONTACT: If you have questions about this notification of non-enforcement, call or email Lieutenant Peter McAndrew, Sector Puget Sound Waterways Management Division, U.S. Coast Guard; telephone 206-217-6051, email SectorPugetSoundWWM@uscg.mil.

SUPPLEMENTARY INFORMATION: The Coast Guard normally enforces the Security Zones in 33 CFR 165.1333 for the Seattle Seafair Fleet Week moving vessels and parade of ships. This event is typically held annually during the parade of ships between July 25 and August 14. This year, the event organizers cancelled Seafair and Fleet Week. Therefore, the Coast Guard does not plan to enforce the security zones in 33 CFR 165.1333 in July or August 2021.

In addition to this notification of non-enforcement in the Federal Register, if the situation changes and the Captain of the Port Sector Puget Sound (COTP) determines that the regulated area needs to be enforced, the COTP will issue a Broadcast Notice to Mariners and provide actual notice of enforcement to any persons in the regulated area.

Dated: June 21, 2021.
P.M. Hilbert,
Captain, U.S. Coast Guard, Captain of the Port Sector Puget Sound.

[FR Doc. 2021-13834 Filed 6-28-21; 8:45 am]

BILLING CODE 9110-04-P